DEPARTMENT OF ENERGY

Federal Energy Regulatory Commission

Combined Notice of Filings #2

Take notice that the Commission received the following exempt wholesale generator filings:

Docket Numbers: EG21-184-000.

Applicants: Broad River Solar, LLC.

Description: Notice of Self-Certification of Exempt Wholesale Generator Status of Board River Solar, LLC.

Filed Date: 6/30/21.

Accession Number: 20210630-5078.

Comments Due: 5 p.m. ET 7/21/21.

Docket Numbers: EG21-185-000.

Applicants: CPRE 1 Lessee, LLC.

Description: Notice of Self-Certification of Exempt Wholesale Generator Status of CPRE 1 Lessee, LLC.

Filed Date: 6/30/21.

Accession Number: 20210630-5110.

Comments Due: 5 p.m. ET 7/21/21.

Docket Numbers: EG21-186-000.

Applicants: Speedway Solar NC, LLC.

Description: Notice of Self-Certification of Exempt Wholesale Generator Status of Speedway Solar NC, LLC.

Filed Date: 6/30/21.

Accession Number: 20210630-5118.

Comments Due: 5 p.m. ET 7/21/21.

Docket Numbers: EG21-187-000.

Applicants: Stony Knoll Solar, LLC.

Description: Notice of Self-Certification of Exempt Wholesale Generator Status of Stony Knoll Solar, LLC.

Filed Date: 6/30/21.

Accession Number: 20210630-5120.

Comments Due: 5 p.m. ET 7/21/21.

Take notice that the Commission received the following electric rate filings:

Docket Numbers: ER18-2511-001.

Applicants: NorthWestern Corporation.

Description: Market-Based Triennial Review Filing: Triennial Market Power Analysis for the SPP Region to be effective N/A.

Filed Date: 6/30/21.

Accession Number: 20210630-5022.

Comments Due: 5 p.m. ET 8/30/21.

Docket Numbers: ER18-2511-001.

Applicants: NorthWestern Corporation.

Description: Market-Based Triennial Review Filing: Triennial Market Power Analysis for the SPP Region to be effective N/A.

Filed Date: 6/30/21.

Accession Number: 20210630-5023.

Comments Due: 5 p.m. ET 8/30/21.

Docket Numbers: ER21-1858-001.

Applicants: Northern States Power Company, a Minnesota corporation.

Description: Tariff Amendment: 2021-06-30-CAPX2020-Brookings-Request for Deferral Action-537-0.1.1 to be effective 12/31/9998.

Filed Date: 6/30/21.

Accession Number: 20210630-5168.

Comments Due: 5 p.m. ET 7/21/21.

Docket Numbers: ER21-2165-000.

Applicants: Virginia Electric and Power Company.

Description: Virginia Electric and Power Company, submits Amendments to Mutual Operating Agreement with Northern Virginia Electric Cooperative.

Filed Date: 6/15/21.

Accession Number: 20210615-5173.

Comments Due: 5 p.m. ET 7/6/21.

Docket Numbers: ER21-2273-000.

Applicants: NSTAR Electric Company.

Description: § 205(d) Rate Filing: Medway Grid, LLC ? Engineering, Design and Procurement Agreement to be effective 7/1/2021.

Filed Date: 6/30/21.

Accession Number: 20210630-5052.

Comments Due: 5 p.m. ET 7/21/21.

Docket Numbers: ER21-2274-000.

Applicants: Ohio Power Company, American Electric Power Service Corporation, PJM Interconnection, L.L.C.

Description: § 205(d) Rate Filing: AEP submits ILDSA, SA No. 1677 and a Facilities Agreement to be effective 6/11/2021.

Filed Date: 6/30/21.

Accession Number: 20210630-5053.

Comments Due: 5 p.m. ET 7/21/21.

Docket Numbers: ER21-2275-000.

Applicants: Southwest Power Pool, Inc.

Description: § 205(d) Rate Filing: 2491R9 Evergy Kansas Central, Inc. NITSA NOA to be effective 9/1/2021.

Filed Date: 6/30/21.

Accession Number: 20210630-5056.

Comments Due: 5 p.m. ET 7/21/21.

Docket Numbers: ER21-2276-000.

Applicants: Southwest Power Pool, Inc.

Description: § 205(d) Rate Filing: 2066R10 Evergy Kansas Central, Inc. NITSA NOA to be effective 9/1/2021.

Filed Date: 6/30/21.

Accession Number: 20210630-5062.

Comments Due: 5 p.m. ET 7/21/21.

Docket Numbers: ER21-2277-000.

Applicants: Midcontinent Independent System Operator, Inc., Ameren Illinois Company.

Description: § 205(d) Rate Filing: 2021-06-30_SA 3028 Ameren IL—Prairie Power Project #28 Wenonah to be effective 8/30/2021.

Filed Date: 6/30/21.

Accession Number: 20210630-5066.

Comments Due: 5 p.m. ET 7/21/21.

Docket Numbers: ER21-2278-000.

Applicants: Southwest Power Pool, Inc.

Description: § 205(d) Rate Filing: 1895R10 Evergy Kansas Central, Inc. NITSA NOA to be effective 9/1/2021.

Filed Date: 6/30/21.

Accession Number: 20210630-5069.

Comments Due: 5 p.m. ET 7/21/21.

Docket Numbers: ER21-2279-000.

Applicants: Iron Star Wind Project, LLC.

Description: Baseline eTariff Filing: Application for Market-Based Rate Authorization, Request for Related Waivers to be effective 9/1/2021.

Filed Date: 6/30/21.

Accession Number: 20210630-5082.

Comments Due: 5 p.m. ET 7/21/21.

Docket Numbers: ER21-2280-000.

Applicants: Independence Wind Energy LLC.

Description: Baseline eTariff Filing: Filing of Market-Based Rate Application to be effective 8/30/2021.

Filed Date: 6/30/21.

Accession Number: 20210630-5090.

Comments Due: 5 p.m. ET 7/21/21.

Docket Numbers: ER21-2281-000.

Applicants: NSTAR Electric Company.

Description: § 205(d) Rate Filing: Hingham Municipal Lighting Plant ? Design and Engineering Agreement to be effective 7/1/2021.

Filed Date: 6/30/21.

Accession Number: 20210630-5113.

Comments Due: 5 p.m. ET 7/21/21.

Docket Numbers: ER21-2282-000.

Applicants: PPL Electric Utilities Corporation, PJM Interconnection, L.L.C.

Description: § 205(d) Rate Filing: PJM Transmission Owners submit revisions to OATT adding new sec 217.8 & Att. O-2 to be effective 8/30/2021.

Filed Date: 6/30/21.

Accession Number: 20210630-5116.

Comments Due: 5 p.m. ET 7/21/21.

Docket Numbers: ER21-2283-000.

Applicants: Phillips 66 Company.

Description: § 205(d) Rate Filing: Amendments to Market-Based Rate Schedule to be effective 8/30/2021.

Filed Date: 6/30/21.

Accession Number: 20210630-5122.

Comments Due: 5 p.m. ET 7/21/21.

Docket Numbers: ER21-2284-000.

Applicants: Coyote Ridge Wind, LLC.

Description: Market-Based Triennial Review Filing: Central Region Triennial of Coyote Ridge to be effective 8/30/2021.

Filed Date: 6/30/21.

Accession Number: 20210630-5124.

Comments Due: 5 p.m. ET 8/30/21.

Docket Numbers: ER21-2285-000.

Applicants: Bishop Hill Energy III LLC.

Description: Market-Based Triennial Review Filing: Central Region Triennial of BH III to be effective 8/30/2021.

Filed Date: 6/30/21.

Accession Number: 20210630-5125.

Comments Due: 5 p.m. ET 8/30/21.

Docket Numbers: ER21-2286-000.

Applicants: WPS Power Development, LLC.

Description: Market-Based Triennial Review Filing: Central Region Triennial of WPS Power Development to be effective 8/30/2021.

Filed Date: 6/30/21.

Accession Number: 20210630-5126.

Comments Due: 5 p.m. ET 8/30/21.

Docket Numbers: ER21-2287-000.

Applicants: Glass Sands Wind Energy, LLC.

Description: Baseline eTariff Filing: Application for MBR Authority and Initial Bseline Tariff Filing to be effective 9/1/2021.

Filed Date: 6/30/21.

Accession Number: 20210630-5129.

Comments Due: 5 p.m. ET 7/21/21.

Docket Numbers: ER21-2287-001.

Applicants: Glass Sands Wind Energy, LLC.

Description: Tariff Amendment: Amendment to MBR Authority Application and Initial Bseline Tariff Filing to be effective 9/1/2021.

Filed Date: 6/30/21.

Accession Number: 20210630-5222.

Comments Due: 5 p.m. ET 7/21/21.

Docket Numbers: ER21-2288-000.

Applicants: New York Independent System Operator, Inc., Niagara Mohawk Power Corporation.

Description: § 205(d) Rate Filing: NYISO-National Grid Joint 205 Amended Restated SGIA2549 Duke North Country Solar to be effective 6/22/2021.

Filed Date: 6/30/21.

Accession Number: 20210630-5130.

Comments Due: 5 p.m. ET 7/21/21.

Docket Numbers: ER21-2289-000.

Applicants: Clover Creek Solar, LLC.

Description: Baseline eTariff Filing: Clover Creek Solar, LLC MBR Tariff to be effective 7/1/2021.

Filed Date: 6/30/21.

Accession Number: 20210630-5148.

Comments Due: 5 p.m. ET 7/21/21.

Docket Numbers: ER21-2290-000.

Applicants: NorthWestern Corporation, Southwest Power Pool, Inc.

Description: § 205(d) Rate Filing: NorthWestern Corporation (South Dakota) Formula Rate Revisions to be effective 9/1/2021.

Filed Date: 6/30/21.

Accession Number: 20210630-5152.

Comments Due: 5 p.m. ET 7/21/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 30, 2021.
Debbie-Anne A. Reese,
Deputy Secretary.

[FR Doc. 2021-14470 Filed 7-6-21; 8:45 am]

BILLING CODE 6717-01-P